DEPARTMENT OF COMMERCE

National Oceanic and Atmospheric Administration

RIN 0648-XG559

Takes of Marine Mammals Incidental to Specified Activities; Taking Marine Mammals Incidental to Boost-Back and Landing of Falcon 9 Rockets

AGENCY: National Marine Fisheries Service (NMFS), National Oceanic and Atmospheric Administration (NOAA), Commerce.

ACTION: Notice; withdrawal of an Incidental Harassment Authorization (IHA) application.

SUMMARY: Notice is hereby given that Space Exploration Technology Corporation (SpaceX) has withdrawn its application for an IHA to take marine mammals incidental to boost-back and landing of Falcon 9 rockets at Vandenberg Air Force Base (VAFB) in California, and at contingency landing locations in the Pacific Ocean. Accordingly, NMFS has withdrawn its related proposed IHA.

FOR FURTHER INFORMATION CONTACT: Amy Fowler, Office of Protected Resources, NMFS, (301) 427-8401.

SUPPLEMENTARY INFORMATION: On August 20, 2018 NMFS received an IHA application from SpaceX for the taking of marine mammals incidental to Falcon 9 First Stage recovery activities, including in-air boost-back maneuvers and landings of the First Stage of the Falcon 9 rocket at VAFB in California, and at contingency landing locations offshore. NMFS determined that the application was adequate and complete on October 23, 2018. The requested IHA would have authorized take, by Level B harassment only, of six marine mammal species as a result from the specified activity. NMFS published a notice of the proposed IHA in the Federal Register (83 FR 57432) on November 15, 2018. On April 18, 2019, NMFS accepted notice from SpaceX withdrawing their IHA application for the proposed action after take of marine mammals incidental to their proposed activities was authorized by Letters of Authorization issued in accordance with 50 CFR 217, Subpart G—Taking of Marine Mammals Incidental to Rocket and Missile Launches and Aircraft Operations at Vandenberg Air Force Base (VAFB), California. Therefore, NMFS has withdrawn its proposed IHA for the action.

Dated: April 29, 2019.
Donna S. Wieting,
Director, Office of Protected Resources, National Marine Fisheries Service.

[FR Doc. 2019-08947 Filed 5-1-19; 8:45 am]

BILLING CODE 3510-22-P